DEPARTMENT OF THE TREASURY

Submission for OMB Review; Comment Request

June 13, 2006.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

Dates: Written comments should be received on or before July 20, 2006 to be assured of consideration.

Financial Management Service

OMB Number: 1510-0073.

Type of Review: Extension.

Title: ETA Financial Agency Agreement.

Description: This application will collect a financial institution's identifying information, confirm a financial institution's commitment to offering the ETA, identify a point of contact for the ETA Program and determine date when institutions will offer ETAs.

Respondents: Business or other for-profit.

Estimated Total Burden Hours: 10 hours.

Clearance Officer: Jiovannah Diggs, (202) 874-7662, Financial Management Service, Room 144, 3700 East West Highway, Hyattsville, MD 20782.

OMB Reviewer: Alexander T. Hunt, (202) 395-7316, Office of Management and Budget, Room 10235, New Executive Office Building, Washington, DC 20503.

Michael A. Robinson,
Treasury PRA Clearance Officer.

[FR Doc. E6-9610 Filed 6-19-06; 8:45 am]

BILLING CODE 4810-35-P